DEPARTMENT OF AGRICULTURE

Natural Resources Conservation Service

Notice of Availability of the Record of Decisions (ROD) for Williamson River Delta Restoration Project

AGENCY: Natural Resources Conservation Service, USDA.

ACTION: Notice of availability of the Record of Decision (ROD) for the Williamson River Delta Restoration Project.

SUMMARY: This notice presents the Record of Decision (ROD) regarding the Natural Resources Conservation Service (NRCS) implementation of the Williamson River Delta Restoration Project to allow NRCS to restore habitat diversity for endangered Lost River and shortnose suckers. NRCS prepared a Final Environmental Impact Statement (FEIS) for the Williamson River Delta Restoration Project and published it on the Oregon NRCS Web site. A Notice of Availability (NOA) of the FEIS was published in the Federal Register on July 1, 2005 and all agencies and individuals who expressed interest in the project. Printed and CD-ROM versions of the FEIS were made available and delivered to all those who requested. This Decision Notice summarizes the environmental, social and economic impacts of the Williamson River Delta Restoration Project alternatives identified in the FEIS that were considered in making this decision, and explains why NRCS selected the Preferred Alternative. The Williamson River Delta Restoration Project FEIS and this ROD may be access via the Internet on the Oregon NRCS Web site at: http://www.or.nrcs.usda.gov/features/klamath.html.

FOR FURTHER INFORMATION CONTACT: Kevin Conroy, Basin Team Leader, 2316 South 6th St., Suite C, Klamath Falls, Oregon 97601; 541-883-6924 ext. 115; 541-882-9044 (FAX).

DATES: Implementation of the project will begin no earlier than 30 days after the date of publication.

Dated: January 27, 2006.
Danny Burgett,
Acting State Conservationist, Portland, Oregon.

Record of Decision

I. The Decision

Preferred Alternative—As a Means of Accomplishing the Williamson River Delta Restoration Project

The Williamson River Delta Restoration Project (Project) will restore habitat considered essential for the recovery of two federally endangered fish species—the Lost River and shortnose suckers (suckers)—native to Upper Klamath Lake and the Williamson River. The Natural Resources Conservation Service (NRCS) completed a detailed analysis of the Project alternatives. This included a thorough evaluation of the resource areas affected by the Project and a comprehensive review of public comments submitted based on the Draft Environmental Impact Statement (EIS). The Preferred Alternative was selected as the most effective means to meet the purpose and need of the Project, which in summary is to restore and maintain the diversity of habitats that are essential to the endangered Lost River and shortnose suckers while, at the same time, minimizing disturbance and adverse impacts to natural and cultural resources. The need for the proposed action is to increase habitat for suckers. Suckers historically used the wetland habitats on the delta but these areas were eliminated when levees were constructed around the delta and the wetlands converted to agricultural uses.

The preferred alternative included mitigation and monitoring and enforcement actions as part of the decision.

Mitigation: Adverse impacts associated with the Preferred Alternative will be minimized to the extent practical, and techniques to mitigate these impacts will be implemented as described herein and in the Final Environmental Impact Statement (FEIS) (USDA 2005).

Erosion control best management practices (BMPs) will be utilized to minimize adverse impacts to water quality potentially occurring as a result of construction activities. BMPs may include seasoning exposed areas (allowing vegetation to establish), turbidity barriers, and transplanting native vegetation onto fresh slopes. Construction will take place during the low water season (for both the lake and river) where necessary, so that earthwork will occur in the dry to the greatest extent practicable. Timing of in-water work will be coordinated with the Oregon Department of Fish and Wildlife (ODFW). Internal levee breaches in higher elevation areas may take place during any time of year and will be completed prior to external breaches, and do not experience flooding.

All equipment will use standard noise-control devices in compliance with pertinent noise standards. Standard dust abatement techniques will minimize air borne dust, and construction areas will be well-marked for safety.

To resolve (avoid, mitigate, or minimize) impacts to cultural resources, the NRCS has involved TNC in consulting with the State Historic Preservation Office (SHPO) and the Klamath Tribes according to the National Historic Preservation Act. The NRCS and TNC will continue to consult with SHPO and the Tribes through the implementation of the Restoration Project. Areas with known cultural resource sites will be avoided, and cultural resource monitors will be present with each piece of moving equipment operating in culturally sensitive areas during construction. Revegetation and other erosion control efforts will also help stabilize cultural resource sites.

Construction areas will be well-marked for safety and to minimize adverse impacts with navigation and recreational uses. Coordination with these user groups will occur to minimize potential conflicts.

The NRCS received a Biological Opinion (BO) and Incidental Take Statement (ITS) from the U.S. Fish and Wildlife Service (USFWS) under the Endangered Species Act and will continue to consult with the USFWS in any situation with a potential to affect threatened or endangered species or critical habitat. Under the terms of the BO, NRCS will: (1) Minimize the take of suckers as a result of Project implementation by appropriately monitoring conditions resulting from the proposed action and using adaptive management where practicable to minimize take and (2) Minimize take of listed species by developing and implementing a pesticide application plan (USFWS 2005). Any in-water work activities will be coordinated with the Oregon Department of Fish and Wildlife.

Permits were obtained from the U.S. Army Corps of Engineers (Corps) (Permit # 200200432) and the Oregon Department of State Lands (DSL) (Permit # 35020-GA) for work to be conducted in jurisdictional wetlands and other waters of the state and U.S. (Corps permit for Section 404 of the Clean Water Act and DSL permit for Oregon state removal/fill law). Oregon Department of Environmental Quality (DEQ) Section 401 Water Quality Certification was granted through issuance of the Corps permit. The Project will be conducted in compliance with the provisions set forth in the above permits, certification, and ITS.

Monitoring efforts will occur as part of the proposed action. These efforts are a function of TNC's ongoing land management at the Williamson River Delta. This monitoring will occur in addition to monitoring needs resulting from regulatory compliance requirements (i.e., USFWS, Corps, DSL, and DEQ). Monitoring will be conducted during construction as well as post-construction. A brief description of each of these efforts is provided below, including any regulatory nexus.

Construction Monitoring

Construction monitoring is intended to monitor the effects of the construction activities on the surrounding environment. Elements to be monitored include cultural resources and water quality. As agreed upon through consultation with SHPO, during restoration, cultural resource monitors would be on site with each piece of earth moving equipment associated with ground disturbance to help ensure that identified areas are not disturbed and, if artifacts are discovered, the appropriate actions will be taken.

Turbidity monitoring will be required upon initiation of construction as a condition of the Corps 404 permit, the DEQ Section 401 Water Quality Certification and the DSL permit. This monitoring likely will consist of taking water quality samples and conducting Secchi disk turbidity monitoring within the project vicinity several times a day during the construction period. These results will be provided to the Corps and DEQ for their review. Should turbidity levels exceed the agreed-upon standards, TNC will consult with DEQ and the Corps to determine appropriate actions to be taken to reduce construction impacts.

Post-Construction Monitoring

The purpose of the post-restoration monitoring plan will be to assess whether the restoration activities meet the purpose and need of the project. This will include documenting specific changes in wetland flora and fauna and water quality that are direct outcomes of Project activities. The monitoring plan will be implemented in certain areas of the Project every year, to reflect the scheduling of restoration activities. The plan will remain in place for 2 to 5 years post-restoration, depending on the results. However, monitoring is not static and is intended to be adaptive. Thus, results from early phases of the restoration will inform subsequent phases. Likewise, after all planned restoration activities are complete, monitoring results will direct further follow-up actions. Monitoring efforts will encompass at a minimum: Fish use/habitat changes, plant community changes, and water quality dynamics. For more specifics on the monitoring plan for these components, please refer to the FEIS (USDA 2005).

Post-restoration sucker sampling and monitoring will focus on documenting larval and juvenile sucker use and success in restored areas of the Delta. Water chemistry (including but not limited to temperature, dissolved oxygen, pH, specific conductance, and nutrient concentrations) and general habitat features (water depth and vegetation profile) will be assessed at larval and juvenile collection sites simultaneous to fish sampling. The monitoring plan will be developed with input and assistance of the Project Technical Committee, which includes representatives from the NRCS, Klamath Tribes, USFWS, TNC, and Reclamation.

II. Rationale for Decision

Three restoration (action) alternatives and a No Action Alternative were evaluated. The No Action Alternative was not the chosen alternative because if left alone, habitat for the endangered suckers would continue to degrade, which would not move towards recovery of these two species. Under the No Action Alternative the delta would remain in a degraded condition, historic hydrologic functions would not be restored, and the associated benefits to sucker habitat would not occur.

The three restoration alternatives were as follows:

Alternative 1: Preferred Alternative.

Alternative 2: Restoration of Channel Form Alternative.

Alternative 3: Basic Reconnection Alternative.

Implementation of each restoration alternative would restore, to varying degrees, historic delta hydrologic functions and the associated benefits to sucker habitat.

• The Basic Reconnection Alternative includes the minimum level of habitat improvements required to meet the Project purpose and need.

• The Preferred Alternative provides significantly greater habitat improvement. It incorporates all of the design elements of the Basic Reconnection Alternative plus dredging an historic oxbow, creating an alternate channel at the river mouth, and restoring a riparian fringe adjacent to the river channel. This alternative also includes other sucker habitat improvement elements not associated with the Basic Reconnection Alternative.

• The Restoration of Channel Form Alternative includes the greatest amount of sucker habitat improvement of the three restoration alternatives because it incorporates all elements associated with the Preferred Alternative as well as restoring additional habitat along the Williamson River channel. However, these increased benefits do not overcome the adverse impacts to cultural resources, water quality and local navigation when compared to the Preferred Alternative. This alternative also was significantly more expensive than the other two alternatives without providing significantly more sucker habitat and diversity.

The relevant factors and rationale to make this decision were as follows. It was determined that the Restoration of Channel Form Alternative presented permanent adverse impacts to navigation (i.e., limitations to vessel size relative to current conditions) (FEIS page 175; USDA 2005), and excessive risk associated with construction related water quality impacts due to greater earthwork and fill volumes placed into the active river channel (i.e. elevated turbidity) (FEIS page 173; USDA 2005). This alternative also presented the greatest potential risk and adverse impacts to cultural resources (i.e. increased earthwork poses greater potential for exposing artifacts) (FEIS page 175; USDA 2005). The above differences in impacts are directly related to the in-channel fills associated with narrowing and blocking the river channel under the Restoration of Channel Form Alternative. Adverse impacts associated with the Basic Reconnection Alternative were determined to be only slightly less than the Preferred Alternative (FEIS; pages 173-175; USDA 2005); however, improvements to sucker habitat would be significantly less (FEIS page 173; USDA 2005). Therefore, the Preferred Alternative was identified as the environmentally preferred alternative as it best balances the purpose and need of maximizing improvements to sucker habitat and minimizing adverse impacts (FEIS pages 173-175; USDA 2005).

III. Mitigation

As described within the FEIS, all practicable means to avoid or minimize environmental harm have been adopted as part of the action. There are irreversible and unavoidable adverse impacts associated with all of the Alternatives that are identified and discussed in the FEIS (FEIS page 170; USDA 2005). Most of these are due to construction related activities. However, most importantly, long-term project benefits will far outweigh the negative short-term effects of construction.

IV. Monitoring and Enforcement

There are no monitoring and enforcement actions that were not included in the preferred alternative and thus became part of the decision.

Decision Statement

In accordance with the Council of Environmental Quality (CEQ) regulations, I have considered all alternatives in this analysis and public input to this project and have identified Alternative 1 (Preferred Alternative) as the alternative to be implemented because it provides the most habitat diversity for endangered suckers while balancing the adverse affects to the natural resources of the area.

Signed by Bob Graham (Responsible Federal Official) in Portland, Oregon on January 23, 2006.

Bob Graham,

Oregon State Conservationist, USDA—Natural Resources Conservation Service.

References

USDA Natural Resources Conservation Service. 2005. Final Environmental Impact Statement, Williamson River Delta Restoration Project. Portland, Oregon. Pp. 187.

U.S. Fish and Wildlife Service. 2005. Biological Opinion for the Williamson River Delta Restoration Project, Klamath County. Klamath Falls, Oregon. Pp. 51.

[FR Doc. E6-1458 Filed 2-1-06; 8:45 am]

BILLING CODE 3410-16-P